NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register and one comment was received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION:

Summary of Comments on the National Science Foundation Proposal and Award Policies and Procedures Guide and NSF's Responses

NSF received one comment in response to the First Federal Register notice published on April 1, 2021, at 86 FR 17207. The comment and summary responses are included in the supporting statement for the information collection request.

Title of Collection: National Science Foundation's Education and Training Application Pilot.

OMB Approval Number: 3145-0248.

Type of Request: Intent to seek approval to extend with revision an information collection for three years.

The National Science Foundation (NSF) seeks to develop and pilot test an electronic data collection system that supports applications to education and training opportunities funded by NSF and allows tracking of participants' program experiences and career outcomes over time. The pilot aims to provide NSF with information to inform decisions in developing an effective and low-burden approach to collect data needed to monitor programs, report to NSF leadership, and comply with congressional requirements.

The main goal of the current project is to build upon a system originally developed for the NSF Research Experiences for Undergraduates (REU) program. The work involves revising and enhancing the system based on the lessons from the initial REU pilot and conducting further testing to prepare it for adoption for the REU program and other education and training programs at NSF. The original REU data system was designed to collect data required by Congress in the America COMPETES Reauthorization Act of 2010, which states that students in the REU program must “be tracked, for employment and continued matriculation in STEM fields, through receipt of the undergraduate degree and for at least three years thereafter” (Section 514[a][6] of Pub. L. 111-358). A study conducted by the Science and Technology Policy Institute determined the need for NSF to create new data collection because “the status quo of [REU] participants providing demographic information to NSF's Research Performance Report System, coupled with voluntary tracking of participants' career choices by the REU [principal investigators], was clearly insufficient to meet the [congressional] mandate” ⁱ. To respond to the America COMPETES mandate, NSF commissioned a data system for the REU program. The current project is the evolution of this early test that originated with the REU program to leverage the system and scale its pilot test to include other NSF programs that similarly invest in human capital development. The new system—The Education and Training Application (ETAP)—supports NSF's learning agenda and is in alignment with the Foundations for Evidence-Based Policymaking Act of 2018 (Pub. L. 115-435), which requires NSF to collect, use, or acquire data to support decision making.

ⁱ Zuckerman, B.J. Doyle, A. Mudd, T. Jones, and G. Davis. “Assessment of the Feasibility of Tracking Participants from the National Science Foundation's Research Experience for Undergraduates (REU) Sites Program.” Final report Washington, DC: STPI, 2016.

In addition to developing and enhancing the system, the present study will pilot test collecting data from a sample of Sites that volunteer to participate. (A Site is an instance of an NSF award offering an education and training opportunity at a given point in time.) By participating in this study, principal investigators (PIs) from these Sites will experience the data collections firsthand and provide feedback to help NSF improve the system before expanding its use. For example, PIs will have an opportunity to determine whether the system facilitates managing applications more efficiently than the usual process, comment on whether the system is user friendly, assess the usefulness of data reports the system produces, and suggest enhancements to the system.

Four key activities define the pilot:

1. Testing a web-based approach to obtain basic background and participation information while supporting applications to individual Sites. Specifically, PIs choose whether they will be running a competitive application process for their Site (for example, an REU Site award recruiting participants nationally) or noncompetitive application (for example, an REU Supplement award that invites its participants). Data collected from applicants will therefore depend on the type of application process for their Sites of interest. The system will include the following:

• Common registration form. All applicants will need to register to apply and participate in an NSF-funded opportunity participating in the pilot. Individuals who are participating in awards that do not have a competitive application process will only need to complete a profile with basic demographic and contact information and provide other information not captured in the profile but that is required for program monitoring and evaluation purposes, such as students' current enrollment or class standing (if applicable).

• Additional application requirements. Individuals wishing to apply for awards that run competitive applications will be able to use the ETAP to apply to multiple NSF awards through a fully operational electronic application. They will first complete the common registration form (described above), which collects basic demographic and contact information needed for analysis and tracking purposes. Next, they will proceed to the application form, through which they will submit additional information that competitive Sites require as part of their applications, such as resume, transcripts, and contact information for their references. PIs and other authorized staff will use the system to provide information needed by prospective applicants (such as the application deadline), retrieve applicant information, record application decisions and participation status among admitted applicants, and produce reports of data submitted by applicants to their Sites.

2. Gathering program experiences and satisfaction. After participating in the NSF program, participants will be administered an exit survey to capture program experiences and participants' attitudes and opinions.

3. Obtaining and integrating educational and employment information. Following a sample of students who had used the predecessor system (REU data system) to apply to the NSF award, this study will do the following:

• Obtain information on educational outcomes from administrative data (National Student Clearinghouse) that NSF can purchase at low cost to the government and no burden to students

• Administer a short survey to obtain information on employment outcomes

• Obtain information on research productivity outcomes (such as publications or patents) from Web of Science, Scopus, and the United States Patent and Trademark Office. (NSF already subscribes to these administrative databases, so they are accessible through NSF systems.)

4. Conducting usability testing and gathering user feedback. This testing will focus on new system enhancements or functionality and seeks to obtain in-depth feedback from users on the common registration form, additional application requirements, and data reports available.

Estimate of Burden: At present, most education and training opportunities funded by NSF use applications that are submitted directly to each Site, if such applications are required as is the case with the REU Sites program. Sites might run competitive and noncompetitive applications to select their program participants. We estimate that individuals applying for noncompetitive Sites will spend 3.25 hours submitting information through the ETAP system; for competitive Sites, this estimate is 7 hours. We estimate that individuals writing letters of reference for students will spend 0.5 hours drafting a letter in support of a student's application to a competitive Site. We estimate that PIs (or their designated users) will spend 4.7 hours using the system to track and manage applications to their Site.

Respondents: Individuals.

Estimated Number of Respondents: 66,499.

Estimated Total Annual Burden on Respondents: 146,710 hours.

Frequency of Responses: Three rounds of data collection.

Dated: June 28, 2021.
Suzanne H. Plimpton,
Reports Clearance Officer, National Science Foundation.

[FR Doc. 2021-14108 Filed 6-30-21; 8:45 am]

BILLING CODE 7555-01-P